DEPARTMENT OF COMMERCE

International Trade Administration

A-357-812

Notice of Extension of Time Limit for Preliminary Results of Antidumping Duty Review: Honey from Argentina

AGENCY: Import Administration, International Trade Administration, Department of Commerce.

EFFECTIVE DATE: July 1, 2005.

FOR FURTHER INFORMATION CONTACT: Brian Sheba or Robert James, AD/CVD Operations, Office 7, Import Administration, International Trade Administration, U.S. Department of Commerce, 14th Street and Constitution Avenue, NW., Washington, DC 20230; telephone: (202) 482-0145 and (202) 482-0469, respectively.

SUPPLEMENTARY INFORMATION:

Background

On December 30, 2004, the American Honey Producers Association and the Sioux Honey Association (collectively petitioners) requested an administrative review of the antidumping duty order on honey from Argentina in response to the Department of Commerce's (the Department) notice of opportunity to request a review published in the Federal Register. See Antidumping or Countervailing Duty Order, Finding, or Suspended Investigation: Opportunity to Request Administrative Review, 69 FR 69889 (December 1, 2003). The petitioners requested that the Department conduct an administrative review of entries of subject merchandise made by twenty-four Argentine producers/exporters. In addition, the Department received requests for reviews from three of the Argentine exporters included in the petitioners' request, plus a request for review by one additional exporter, El Mana S.A. (El Mana). The Department initiated a review on the above twenty-five companies on January 31, 2005. See Initiation of Antidumping and Countervailing Duty Administrative Reviews and Request for Revocation in Part, 70 FR 4818 (January 31, 2005).

Subsequent to the Department's initiation of review, on February 22, 2005, the petitioners filed a withdrawal of request for review for fifteen of the companies. See letter from petitioners to the Department, Honey From Argentina, (February 22, 2005), on file in the Central Records Unit (CRU), room B-099 of the main Department building. On February 24, 2005, both petitioners and Nexco S.A. (Nexco) (an exporter) submitted letters withdrawing their individual requests for review of Nexco. See letters from petitioners and from Nexco to the Department, Honey From Argentina, (February 24, 2005), on file in the CRU. Also on February 24, 2005, petitioner rescinded its withdrawal with respect to Mielar S.A. (Mielar). See id. On March 9, 2005, El Mana submitted a letter withdrawing its request for administrative review. See letter from El Mana to the Department, Honey From Argentina, (March 9, 2005), on file in the CRU. On March 31, 2005, petitioners submitted a withdrawal of request for review of two additional companies: Compania Apicola Argentina (CAA), Mielar, and TransHoney S.A. (TransHoney). See Letter from petitioners to the Department, Honey From Argentina, (March 31, 2005), on file in the CRU. On April 15, 2005, the Department rescinded its review for the companies named in petitioners' and respondents' withdrawals of request for review. See Honey from Argentina: Notice of Partial Rescission of Antidumping Duty Administrative Review, 70 FR 19927 (April 15, 2005).

Notice of Extension

Pursuant to the time limits for administrative reviews set forth in section 751(a)(3)(A) of the Tariff Act of 1930, as amended (the Act), the current deadlines are September 1, 2005, for the preliminary results and December 30, 2005, for the final results of this administrative review. The Department, however, may extend the deadline for completion of the preliminary results of a review if it determines it is not practicable to complete the preliminary results within the statutory time limit. See 751(a)(3)(A) of the Act and section 351.213(h)(2) of the Department's regulations. In this case the Department has determined it is not practicable to complete this review within the statutory time limit because of complex issues involved in this review, including the requested partial revocation of the dumping order with respect to Asociación de Cooperativas Argentinas.

Therefore, the Department is extending the time limit for completion of the preliminary results until December 20, 2005, in accordance with section 751(a)(3)(A) of the Act. The deadline for the final results of this review will continue to be 120 days after publication of the preliminary results.

Dated: June 27, 2005.
Barbara E. Tillman,
Acting Deputy Assistant Secretary for Import Administration.

[FR Doc. E5-3470 Filed 6-30-05; 8:45 am]

BILLING CODE 3510-DS-S